DEPARTMENT OF COMMERCE

International Trade Administration

[A-570-979]

Crystalline Silicon Photovoltaic Cells, Whether or Not Assembled Into Modules, From the People's Republic of China: Final Results of Antidumping Duty Administrative Review and Final Determination of No Shipments; 2016-2017

AGENCY: Enforcement and Compliance, International Trade Administration, Department of Commerce.

SUMMARY: The Department of Commerce (Commerce) continues to find that manufacturers/exporters of crystalline silicon photovoltaic cells, whether or not assembled into modules (solar cells), from the People's Republic of China (China) sold solar cells at less than normal value during the period of review (POR) December 1, 2016 through November 30, 2017.

DATES: Applicable July 30, 2019.

FOR FURTHER INFORMATION CONTACT: Jeff Pedersen and Krisha Hill, AD/CVD Operations, Office IV, Enforcement and Compliance, International Trade Administration, U.S. Department of Commerce, 1401 Constitution Avenue NW, Washington, DC 20230; telephone: (202) 482-2769 and (202) 482-4037, respectively.

SUPPLEMENTARY INFORMATION:

Background

On December 28, 2018, Commerce published in the Federal Register the preliminary results of the 2016-2017 administrative review of the antidumping duty order on solar cells from the China.¹ For events subsequent to the Preliminary Results, see Commerce's Issues and Decision Memorandum.² The final weighted-average dumping margins are listed below in the “Final Results of Review” section of this notice.

¹ See Crystalline Silicon Photovoltaic Cells, Whether or Not Assembled Into Modules, from the People's Republic of China: Preliminary Results of Antidumping Duty Administrative Review and Preliminary Determination of No Shipments; 2016-2017, 83 FR 67222 (December 28, 2018) (Preliminary Results), and accompanying Preliminary Decision Memorandum.

² See Memorandum, “Issues and Decision Memorandum for the Final Results of the 2016-2017 Antidumping Duty Administrative Review of Crystalline Silicon Photovoltaic Cells, Whether or Not Assembled into Modules, from the People's Republic of China” (Issues and Decision Memorandum), dated concurrently with, and hereby adopted by, this notice.

On January 28, 2019, Commerce exercised its discretion to toll all deadlines affected by the closure of the Federal Government from December 22, 2018 through January 27, 2019.³ Subsequently, Commerce extended the deadline for the final results of this review until July 24, 2019.⁴

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁴ See Memoranda, “Extension of Deadline for Final Results of Antidumping Duty Administrative Review,” dated May 23, 2019; and “Second Extension of Deadline for Final Results of Antidumping Duty Administrative Review,” dated July 11, 2019.

Scope of the Order

The merchandise covered by this order is crystalline silicon photovoltaic cells, and modules, laminates, and panels, consisting of crystalline silicon photovoltaic cells, whether or not partially or fully assembled into other products, including, but not limited to, modules, laminates, panels and building integrated materials.⁵ Merchandise covered by this order is currently classified in the Harmonized Tariff Schedule of the United States (HTSUS) under subheadings 8501.61.0000, 8507.20.80, 8541.40.6015, 8541.40.6020, 8541.40.6025, 8541.40.6030, 8541.40.6035, 8541.40.6045, and 8501.31.8000. Although these HTSUS subheadings are provided for convenience and customs purposes, the written description of the scope of this order is dispositive.

⁵ For a complete description of the scope of the order, see Issues and Decision Memorandum.

Analysis of Comments Received

All issues raised in the case and rebuttal briefs filed by parties in this review are addressed in the Issues and Decision Memorandum. A list of the issues that parties raised, and to which we responded in the Issues and Decision Memorandum, follows as an appendix to this notice. The Issues and Decision Memorandum is a public document and is on file electronically via Enforcement and Compliance's Antidumping and Countervailing Duty Centralized Electronic Service System (ACCESS). ACCESS is available to registered users at https://access.trade.gov and to all parties in the Central Records Unit, room B8024 of the main Commerce building. In addition, a complete version of the Issues and Decision Memorandum can be accessed directly on the internet at http://enforcement.trade.gov/frn/. The paper copy and electronic version of the Issues and Decision Memorandum are identical in content.

Affiliation and Single Entity Determination

We preliminarily found that Chint Energy (Haining) Co., Ltd.; Chint Solar (Jiuquan) Co., Ltd.; and Chint Solar (Hong Kong) Company Limited are affiliated with Chint Solar (Zhejiang) Co., Ltd. (CSZ) (collectively, Chint Solar), pursuant to section 771(33)(E) of the Tariff Act of 1930, as amended (the Act), and that all of these companies should be treated as a single entity, pursuant to 19 CFR 351.401(f)(1)-(2). We also found that Risen (Wuhai) New Energy Co., Ltd.; Zhejiang Twinsel Electronic Technology Co., Ltd.; Risen (Luoyang) New Energy Co., Ltd.; Jiujiang Shengchao Xinye Technology Co., Ltd.; Jiujiang Shengzhao Xinye Trade Co., Ltd. Ruichang Branch; and Risen Energy (Hong Kong) Co., Ltd. are affiliated with Risen Energy Co., Ltd. (Risen Energy) (collectively, Risen), pursuant to sections 771(33)(E) and (F) of the Act, and all of these companies should be treated as a single entity, pursuant to 19 CFR 351.401(f)(1)-(2). No interested party commented on these treatments, and these findings remain unchanged for these final results.

Changes Since the Preliminary Results

Based on a review of the record and comments received from interested parties regarding our Preliminary Results, and for the reasons explained in the Issues and Decision Memorandum, we made revisions to our preliminary calculations of the weighted-average dumping margin for the mandatory respondents, Chint Solar and Risen, which also resulted in a revision of the dumping margin for the separate rate respondents.

In the Preliminary Results, we inadvertently stated that Lightway Green New Energy Co., Ltd. (Lightway) failed to file a separate rate certification. However, Lightway did timely file a separate rate certification on March 26, 2018.⁶ Lightway's separate rate certification was complete and we noted no deficiencies. Further, the evidence placed on the record of this administrative review by this Chinese-owned company demonstrates an absence of de jure and de facto government control under the criteria identified in Sparklers ⁷ and Silicon Carbide.⁸ Accordingly, Commerce has determined that Lightway is eligible for a separate rate.

⁶ See Lightway's March 26, 2018 Separate Rate Certification.

⁷ See Final Determination of Sales at Less Than Fair Value: Sparklers from the People's Republic of China, 56 FR 20588 (May 6, 1991) (Sparklers).

⁸ See Notice of Final Determination of Sales at Less Than Fair Value: Silicon Carbide from the People's Republic of China, 59 FR 22585 (May 2, 1994) (Silicon Carbide).

Final Determination of No Shipments

In the Preliminary Results, we preliminarily found that the following companies had no shipments during the POR: Anji DaSol Solar Energy Science & Technology Co., Ltd.; BYD (Shangluo) Industrial Co., Ltd.; Jiawei Solarchina Co., Ltd.; LERRI Solar Technology Co., Ltd.; Ningbo ETDZ Holdings, Ltd.; Sunpreme Solar Technology (Jiaxing) Co., Ltd.; Toenergy Technology Hangzhou Co., Ltd.; Wuxi Suntech Power Co., Ltd/Luoyang Suntech Power Co., Ltd.; and Zhejiang ERA Solar Technology Co., Ltd. Other than a comment regarding no shipments submitted by LONGi Solar Technology Co. Ltd. (LONGi), we did not receive any comments from interested parties regarding our preliminary finding of no shipments from the above companies. Based on LONGi's comment, and in the absence of record evidence demonstrating otherwise, we are now determining that LONGi also had no shipments during the POR.

Consistent with Commerce's assessment practice in non-market economy cases, we completed the review with respect to the above-named companies. Based on the certifications submitted by the aforementioned companies, and our analysis of U.S. Customs and Border Protection (CBP) information, we continue to determine that these companies did not have any reviewable transactions during the POR. As noted in the “Assessment” section below, we will issue appropriate instructions with respect to these companies to CBP based on our final results.⁹ In addition, these companies will maintain their rate from the most recent segment in which they participated.

⁹ See Non-Market Economy Antidumping Proceedings: Assessment of Antidumping Duties, 76 FR 65694 (October 24, 2011) (Assessment of Antidumping Duties); see also the “Assessment” section of this notice, below.

Separate Rates

In the Preliminary Results, we found that evidence provided by Chint Solar, Risen, and 20 other companies/company groups supported finding an absence of both de jure and de facto government control, and, therefore, we preliminarily granted a separate rate to each of these companies/company groups. We received no comments since the issuance of the Preliminary Results regarding our determination that these 22 companies/company groups are eligible for a separate rate. As explained above, in addition to these 22 companies, we have also granted a separate rate to Lightway. Therefore, for the final results, we find that 23 entities are eligible for separate rates. Commerce assigned a dumping margin to the separate rate companies that it did not individually examine, but which demonstrated their eligibility for a separate rate, based on the mandatory respondents' dumping margins.¹⁰

¹⁰ See Memorandum “Calculation of the Final Dumping Margin for Separate Rate Recipients,” dated concurrently with this notice.

Final Results of Review

We determine that the following weighted-average dumping margins exist for the period December 1, 2016 through November 30, 2017:

Exporter | Weighted-average dumping margin (percent)
Chint Solar (Zhejiang) Co., Ltd./Chint Energy (Haining) Co., Ltd./Chint Solar (Jiuquan) Co., Ltd./Chint Solar (Hong Kong) Company Limited | 2.67
Risen Energy Co. Ltd./Risen (Wuhai) New Energy Co., Ltd./Zhejiang Twinsel Electronic Technology Co., Ltd./Risen (Luoyang) New Energy Co., Ltd./Jiujiang Shengchao Xinye Technology Co., Ltd./Jiujiang Shengzhao Xinye Trade Co., Ltd. Ruichang Branch/RISEN ENERGY (HONGKONG) CO., LTD | 4.79
Canadian Solar International Limited/Canadian Solar Manufacturing (Changshu), Inc./Canadian Solar Manufacturing (Luoyang)Inc./CSI Cells Co., Ltd./CSI-GCL Solar Manufacturing (YanCheng) Co., Ltd./CSI Solar Power (China) Inc | 4.06
ET Solar Energy Limited | 4.06
Hengdian Group DMEGC Magnetics Co., Ltd | 4.06
JA Solar Technology Yangzhou Co., Ltd | 4.06
Jiangsu High Hope Int'l Group | 4.06
Jiawei Solarchina (Shenzhen) Co., Ltd | 4.06
JingAo Solar Co., Ltd | 4.06
Jinko Solar Import and Export Co., Ltd | 4.06
Lightway Green New Energy Co., Ltd | 4.06
Nice Sun PV Co., Ltd | 4.06
Ningbo Qixin Solar Electrical Appliance Co., Ltd | 4.06
Shanghai BYD Co., Ltd | 4.06
Shanghai JA Solar Technology Co., Ltd | 4.06
Shenzhen Sungold Solar Co., Ltd | 4.06
Shenzhen Topray Solar Co., Ltd | 4.06
Sumec Hardware & Tools Co., Ltd | 4.06
Taizhou BD Trade Co., Ltd | 4.06
Wuxi Tianran Photovoltaic Co., Ltd | 4.06
Xiamen Eco-sources Technology Co., Ltd | 4.06
Yingli Energy (China) Company Limited/Baoding Tianwei Yingli New Energy Resources Co., Ltd./Tianjin Yingli New Energy Resources Co., Ltd./Hengshui Yingli New Energy Resources Co., Ltd./Lixian Yingli New Energy Resources Co., Ltd./Baoding Jiasheng Photovoltaic Technology Co., Ltd./Beijing Tianneng Yingli New Energy Resources Co., Ltd./Hainan Yingli New Energy Resources Co., Ltd./Shenzhen Yingli New Energy Resources Co., Ltd | 4.06
Zhejiang Sunflower Light Energy Science & Technology Limited Liability Company | 4.06

Commerce's policy regarding conditional review of the China-wide entity applies to this administrative review.¹¹ Under this policy, the China-wide entity will not be under review unless a party specifically requests, or Commerce self-initiates, a review of the entity. Because no party requested a review of the China-wide entity, and we did not self-initiate a review of the entity, the entity is not under review, and the entity's dumping margin (i.e., 238.95 percent) is not subject to change as a result of this review.¹²

¹¹ See Antidumping Proceedings: Announcement of Change in Department Practice for Respondent Selection in Antidumping Duty Proceedings and Conditional Review of the Nonmarket Economy Entity in NME Antidumping Duty Proceedings, 78 FR 65963, 65969-70 (November 4, 2013).

¹² See Crystalline Silicon Photovoltaic Cells, Whether or Not Assembled Into Modules, from the People's Republic of China: Final Results of Antidumping Duty Administrative Review and Final Determination of No Shipments; 2015-2016, 83 FR 35616 (July 27, 2018).

Assessment

We will determine, and CBP shall assess, antidumping duties on all appropriate entries covered by this review. We intend to issue assessment instructions to CBP 15 days after the publication date of these final results of review. In accordance with 19 CFR 351.212(b)(1), we are calculating importer- or customer-specific assessment rates for the merchandise subject to this review. For any individually examined respondent whose weighted-average dumping margin is above de minimis (i.e., 0.50 percent), we will calculate importer- or customer-specific assessment rates for merchandise subject to this review. Where the respondent reported reliable entered values, we calculated importer- or customer-specific ad valorem rates by aggregating the dumping margins calculated for all U.S. sales to the importer or customer and dividing this amount by the total entered value of the sales to the importer or customer.¹³ Where we calculated an importer- or customer-specific weighted-average dumping margin by dividing the total amount of dumping for reviewed sales to the importer or customer by the total sales quantity associated with those transactions, we will direct CBP to assess importer- or customer-specific assessment rates based on the resulting per-unit rates.¹⁴ Where an importer- or customer- specific ad valorem or per-unit rate is greater than de minimis, we will instruct CBP to collect the appropriate duties at the time of liquidation. Where either the respondent's weighted average dumping margin is zero or de minimis, or an importer or customer-specific ad valorem or per-unit rate is zero or de minimis, we will instruct CBP to liquidate appropriate entries without regard to antidumping duties.¹⁵

¹³ See 19 CFR 351.212(b)(1).

¹⁴ Id.

¹⁵ See Antidumping Proceedings: Calculation of the Weighted-Average Dumping Margin and Assessment Rate in Certain Antidumping Duty Proceedings; Final Modification, 77 FR 8101, 8103 (February 14, 2012).

For merchandise whose sale/entry was not reported in the U.S. sales database submitted by an exporter individually examined during this review, but that entered under the case number of that exporter (i.e., at the individually-examined exporter's cash deposit rate), we will instruct CBP to liquidate such entries at the China-wide rate. Additionally, if we determine that an exporter under review had no shipments of the subject merchandise, any suspended entries that entered under that exporter's case number will be liquidated at the China-wide rate.¹⁶

¹⁶ See Non-Market Economy Antidumping Proceedings: Assessment of Antidumping Duties, 76 FR 65694 (October 24, 2011), for a full discussion of this practice.

Cash Deposit Requirements

The following cash deposit requirements will be effective upon publication of the final results of this administrative review for shipments of the subject merchandise from China entered, or withdrawn from warehouse, for consumption on or after the publication date of this notice in the Federal Register, as provided by section 751(a)(2)(C) of the Act: (1) For the exporters listed in the table in the “Final Results of Review” section above, the cash deposit rate will be the rate listed for each exporter in the table, except if the rate is zero or de minimis (i.e., less than 0.5 percent), then the cash deposit rate will be zero; (2) for previously investigated Chinese and non-Chinese exporters that received a separate rate in a prior segment of this proceeding, the cash deposit rate will continue to be the existing exporter-specific rate; (3) for all Chinese exporters of subject merchandise that have not been found to be entitled to a separate rate, the cash deposit rate will be the rate previously established for the China-wide entity (i.e., 238.95 percent); ¹⁷ and (4) for all non-China exporters of subject merchandise which have not received their own rate, the cash deposit rate will be the rate applicable to the Chinese exporter that supplied the non-Chinese exporter. These deposit requirements, when imposed, shall remain in effect until further notice.

¹⁷ See Crystalline Silicon Photovoltaic Cells, Whether or Not Assembled Into Modules, from the People's Republic of China: Final Results of Antidumping Duty Administrative Review and Final Determination of No Shipments; 2012-2013, 80 FR 40998 (July 14, 2015).

Disclosure

We intend to disclose the calculations performed for these final results within five days of publication of this notice in the Federal Register in accordance with 19 CFR 351.224(b).

Notification to Importers

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

This determination is issued and published in accordance with sections 751(a)(1) and 777(i)(1) of the Act and 19 CFR 351.221(b)(5).

Dated: July 24, 2019.
Jeffrey I. Kessler
Assistant Secretary for Enforcement and Compliance.

Appendix

Issues and Decision Memorandum

I. Summary

II. Background

III. Scope of the Order

IV. Discussion of the Issues

Comment 1. Unreported Factors of Production for Purchased Solar Cells and Modules

Comment 2. Export Buyer's Credit Program

Comment 3. Weights of Chint Solar Inputs

Comment 4. Ministerial Error—Chint Solar

Comment 5. Treatment of Warranties Provided by Chint Solar

Comment 6. Treatment of Reported Data by Risen's Cooperative Unaffiliated Suppliers

Comment 7. Treatment of LERRI/LONGi

Comment 8. Surrogate Value for Aluminum Frames—I

Comment 9. Surrogate Value for Aluminum Frames—II

Comment 10. Surrogate Value for Silver Paste

Comment 11. Surrogate Value for Welding Wire

Comment 12. Surrogate Value for Backsheet

Comment 13. Surrogate Value for Nitrogen

Comment 14. Selection of Surrogate Financial Statements

Comment 15. Selection of Surrogate Labor Data Source

Comment 16. Surrogate Value for Ocean Freight

V. Recommendation

[FR Doc. 2019-16159 Filed 7-29-19; 8:45 am]

BILLING CODE 3510-DS-P